DEPARTMENT OF THE INTERIOR

National Park Service

[NPS-WASO-NRNHL-DTS#-34388; PPWOCRADI0, PCU00RP14.R50000]

National Register of Historic Places; Notification of Pending Nominations and Related Actions

AGENCY: National Park Service, Interior.

ACTION: Notice.

SUMMARY: The National Park Service is soliciting electronic comments on the significance of properties nominated before August 13, 2022, for listing or related actions in the National Register of Historic Places.

DATES: Comments should be submitted electronically by September 8, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 13, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Royale Gardens II, 1904-1944 East Medlock Dr.. Phoenix, SG100008192

Miracle Mile Historic District, 1325-1812 East McDowell Rd., Phoenix, SG100008193

Sands North Townhouses Historic District, 7230-7310 East Joshua Tree Ln., 6802-6650 North 72nd Pl., 7231-7309, East Cactus Wren Rd., and 6811-6839 North 73rd St., Scottsdale, SG100008212

Navajo County

Winslow Municipal Airport Historic District, 701,703,707 Airport Rd., Winslow, SG100008194

ARKANSAS

Ashley County

Yale Camp Historic District, 1141 South Parkway Dr., Crossett, SG100008191

Nevada County

Prescott City Hall, 118 West Elm St., Prescott, SG100008190

IDAHO

Fremont County

Rankin Auto Court, 120 South US 20, Ashton vicinity, SG100008209

IOWA

Muscatine County

St. Mary's Roman Catholic Church, 314 Grand Ave., Nichols, SG100008198

LOUISIANA

Natchitoches Parish

Drake's Salt Works Archaeological District, Address Restricted, Goldonna vicinity, SG100008174

MISSISSIPPI

Hinds County

Upper Midtown Historic District (Boundary Increase), Roughly bounded by Duncan Ave., North West St., Livingston St. and North Mill St., Jackson, SG100008189

MISSOURI

Jackson County

R.J. DeLano School for Crippled Children, (Kansas City, Missouri School District Pre-1970 MPS), 3708 East Linwood Blvd., Kansas City, MP100008203

West Bottoms Historic District (Boundary Increase), (Railroad Related Historic Commercial and Industrial Resources in Kansas City, Missouri MPS), Bounded by St. Louis Ave., Santa Fe St., West 14th St., Liberty St., North and East Rail lines, Kansas City, MP100008207

Jasper County

Boots Court, (Route 66 in Missouri MPS), 107 South Garrison Ave., Carthage, MP100008202

Nodaway County

Maryville Post Office, 509 North Main St., Maryville, SG100008204

St. Louis Independent City, Baden School, (St. Louis Public Schools of William B. Ittner MPS), 8724 Halls Ferry Rd., Saint Louis, MP100008201

One Bell Center, 909 Chestnut St., St. Louis, SG100008205

NORTH CAROLINA

Columbus County

Westside High School, 801 West Smith St., Chadbourn, SG100008183

OKLAHOMA

Tulsa County

Greenwood Historic District, 100-300 blks. North Greenwood Ave. and 419 North Elgin Ave., Tulsa, SG100008199

PUERTO RICO

San Juan Municipality

Casa Dr. Bailey K. Ashford, Avenida Ashford 1312, San Juan, SG100008175

SOUTH CAROLINA

Chesterfield County

Coulter Memorial Academy Historic District, Roughly bounded by Powe, Front, Second, and Kershaw Sts., Cheraw, SG100008217

Greenville County

Richardson, Lawrence L., House, 326 South Main St., Simpsonville, SG100008218

TEXAS

Milam County

Rancheria Grande Archeological District, (El Camino Real de los Tejas National Historic Trail MPS), Address Restricted, Gause vicinity, MP100008188

Tarrant County

Fort Worth National Bank, 115 West 7th St., Fort Worth, SG100008197

VIRGINIA

Hanover County

Berkleytown Historic District, Bounded by the CSX Railroad, Archie Cannon Dr., US 1/North Washington Hwy., and Smith St., Ashland, SG100008210

Northampton County

Chatham, 9218 Chatham Rd., Machipongo vicinity, SG100008186

WASHINGTON

King County

Chief Sealth High School, 2600 SW Thistle St., Seattle, SG100008187

USCG-11 (united states coast guard patrol vessel), 1801 Fairview Ave. East, Seattle vicinity, SG100008195

WISCONSIN

Milwaukee County

McCullough and Dixon Steam Laundry and Soap Company, 419 West Vliet St., Milwaukee, SG100008208

TOPS Club Inc., 4575 South 5th St., Milwaukee, SG100008211

A request for removal has been made for the following resources:

IOWA

Black Hawk County

Newell, James, Barn, North of Cedar Falls off US 218, Cedar Falls vicinity, OT76000734

Boone County

Squaw Creek Bridge, (Highway Bridges of Iowa MPS), 120th St. and V Ave. over Squaw Cr., Ridgeport vicinity, OT98000763

Chickasaw County

Darrow, George, Round Barn, (Iowa Round Barns: The Sixty Year Experiment TR), Cty. Rd. T76, Alta Vista vicinity, OT86001421

Clayton County

Goedert Meat Market, 322 Main St., McGregor, OT96001159

Jackson County

Chicago, Milwaukee & St. Paul Narrow Gauge Depot-LaMotte, (Advent & Development of Railroads in Iowa MPS), Market St., LaMotte, OT95000105

Ringgold County

Buck, W.J., Polygonal Barn, (Iowa Round Barns: The Sixty Year Experiment TR), Off US 169, Diagonal vicinity, OT86001471

Additional documentation has been received for the following resources:

MISSOURI

Jackson County

West Bottoms Historic District (Additional Documentation), (Railroad Related Historic Commercial and Industrial Resources in Kansas City, Missouri MPS) Bounded by St. Louis Ave., Santa Fe St., West 14th St., Liberty St., North and East Rail lines, Kansas City, AD16000771

NORTH CAROLINA

Guilford County

Palmer Memorial Institute Historic District (Additional Documentation), 6124-6146 Burlington Rd., Sedalia, AD88002029

OKLAHOMA

Creek County

Sapulpa Downtown Historic District (Additional Documentation), Roughly bounded by Hobson Ave., Elm St., Lee Ave., and Main St., Sapulpa, AD02000975

SOUTH CAROLINA

Chesterfield County

Cheraw Historic District, North of Church St., south of Hartzell Ave. and Kershaw St., east of Christian St., west of Front St., Cheraw, AD74001844

Authority: Section 60.13 of 36 CFR part 60.

Dated: August 17, 2022.
Sherry A. Frear,
Chief, National Register of Historic Places/National Historic Landmarks Program.

[FR Doc. 2022-18302 Filed 8-23-22; 8:45 am]

BILLING CODE 4312-52-P